DEPARTMENT OF THE TREASURY

Submission for OMB Review; Comment Request

June 8, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

Dates: Written comments should be received on or before July 22, 2005 to be assured of consideration.

Internal Revenue Service (IRS)

OMB Number: 1545-1919.

Form Number: IRS Form 12854.

Type of Review: Extension.

Title: Prior Government Service Information.

Description: Form 12854 is used to record prior government service, annuitant information and to advice on probationary periods.

Respondents: Individuals or households.

Estimated Number of Respondents/Recordkeepers: 24,813.

Estimated Burden Hours Respondent/Recordkeeper: 15 minutes.

Frequency of Response: On occasion.

Estimated Total Reporting/Recordkeeping Burden: 6,203 hours.

Clearance Officer: Glenn P. Kirkland, (202) 622-3428.Internal Revenue Service, Room 6516, 1111 Constitution Avenue, NW., Washington, DC 20224.

OMB Reviewer: Alexander T. Hunt, (202) 395-7316, Office of Management and Budget, Room 10235, New Executive Office Building, Washington, DC 20503.

Lois K. Holland,
Treasury PRA Clearance Officer.

[FR Doc. 05-12324 Filed 6-21-05; 8:45 am]

BILLING CODE 4830-01-P